DEPARTMENT OF LABOR

Employment and Training Administration

[TA-W-62,613]

Longview Fibre Paper and Packaging, Inc., Longview Mill, Formerly Fibre Company, Longview, WA; Notice of Revised Determination on Reconsideration

By application dated March 28, 2008, a petitioner requested administrative reconsideration of the Department's negative determination regarding eligibility for workers and former workers of the subject firm to apply for Trade Adjustment Assistance (TAA) and Alternative Trade Adjustment Assistance (ATAA).

The initial investigation resulted in a negative determination signed on March 18, 2008, was based on the finding that imports of kraft paper did not contribute importantly to worker separations at the subject plant and there was no shift in production of kraft paper from the subject firm abroad. The denial notice will soon be published in the Federal Register.

In the request for reconsideration, the petitioner provided additional information regarding the subject firm's customers and also requested the Department of Labor conduct further analysis of imports that are like or directly competitive with kraft paper.

The Department further reviewed responses of a sample customer survey conducted during the initial investigation. On further analysis, it has been determined that a significant number of customers increased their imports of kraft paper while decreasing their purchases from the subject firm from 2006 to 2007.

In accordance with Section 246 the Trade Act of 1974 (26 U.S.C. 2813), as amended, the Department of Labor herein presents the results of its investigation regarding certification of eligibility to apply for alternative trade adjustment assistance (ATAA) for older workers.

In order for the Department to issue a certification of eligibility to apply for ATAA, the group eligibility requirements of Section 246 of the Trade Act must be met. The Department has determined in this case that the requirements of Section 246 have been met.

A significant number of workers at the firm are age 50 or over and possess skills that are not easily transferable. Competitive conditions within the industry are adverse.

Conclusion

After careful review of the additional facts obtained on reconsideration, I conclude that increased imports of articles like or directly competitive with kraft paper produced at Longview Fibre Paper and Packaging, Inc., Longview Mill, Longview, Washington, contributed importantly to the declines in sales or production and to the total or partial separation of workers at the subject firm. In accordance with the provisions of the Act, I make the following certification:

All workers of Longview Fibre Paper and Packaging, Inc., Longview Mill, formerly Longview Fibre Company, Longview, Washington, engaged in production of kraft paper, who became totally or partially separated from employment on or after December 27, 2006, through two years from the date of this certification, are eligible to apply for adjustment assistance under Section 223 of the Trade Act of 1974, and are eligible to apply for alternative trade adjustment assistance under Section 246 of the Trade Act of 1974.

Signed at Washington, DC., this 15th day of April, 2008.
Elliott S. Kushner,
Certifying Officer, Division of Trade Adjustment Assistance.

[FR Doc. E8-8778 Filed 4-22-08; 8:45 am]

BILLING CODE 4510-FN-P